DEPARTMENT OF THE INTERIOR

National Park Service

[NPS-WASO-NAGPRA-23117: PPWOCRADN0-PCU00RP14.R50000]

Notice of Inventory Completion: Human Remains Repository, Department of Anthropology, University of Wyoming, Laramie, WY

AGENCY: National Park Service, Interior.

ACTION: Notice.

SUMMARY: The Human Remains Repository, Department of Anthropology, University of Wyoming, has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Human Remains Repository, Department of Anthropology, University of Wyoming. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the Human Remains Repository, Department of Anthropology, University of Wyoming, at the address in this notice by June 2, 2017.

ADDRESSES: Dr. Rick L. Weathermon, Curator, Human Remains Repository, Department 3431, Anthropology, 1000 East University Avenue, University of Wyoming, Laramie, WY 82071, telephone (307) 314-2035, email rikw@uwyo.edu.

SUPPLEMENTARY INFORMATION: Notice is here given in accordance with the Native American Graves Protection and Repatriation Act (NAGPRA), 25 U.S.C. 3003, of the completion of an inventory of human remains and associated funerary objects under the control of the Human Remains Repository, Department of Anthropology, University of Wyoming, Laramie, WY. The human remains and associated funerary objects were removed from multiple locations in multiple counties in Wyoming.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Human Remains Repository, Department of Anthropology, University of Wyoming, Laramie, WY, professional staff in consultation with representatives of the Arapaho Tribe of the Wind River Reservation, Wyoming. The following tribes were invited to consult but did not participate in consultation: Cheyenne and Arapaho Tribes, Oklahoma (previously listed as the Cheyenne-Arapaho Tribes of Oklahoma); and Northern Cheyenne Tribe of the Northern Cheyenne Indian Reservation, Montana.

History and Description of the Remains

In 1968, human remains representing, at minimum, one individual were removed from site 48AB6, located east of Laramie in Albany County, WY, near the City Springs wells, by members of the University of Wyoming Department of Anthropology. The human remains represent a Native American female 21-25 years old. No known individual was identified. The human remains and associated funerary objects are recorded together as HR006 in the Human Remains Repository records. Sediment samples from the grave area are also present. The 8 associated funerary objects include one lot of brass wire bracelet fragments; one lot of rusted metal fragments; one lot of blue glass seed trade beads; one lot of white glass seed trade beads; one lump of red ocher; one lot of small disintegrating leather fragments; one lot of debitage; and one lot of decaying wood fragments that may represent a grave cover or collapsed scaffold.

In 1974, human remains representing, at minimum, one individual were removed from the Bell Cave site (48AB304), located 18 miles north-northeast of Laramie in Albany County, WY, by members of the Wyoming State Archaeology Survey Office. The fragmentary human remains represent a Native American individual 21-24 years old, of undetermined sex. No known individual was identified. The human remains and associated funerary objects are recorded together as HR011 in the Human Remains Repository records. The 2 associated funerary objects include one lot of small blue and white glass seed trade beads and one lot of larger red, blue, and white lamp-wound glass trade beads.

In 1974, human remains representing, at minimum, two individuals, were removed from an unknown site, located southwest of Laramie, Albany County, WY, by members of the University of Wyoming Department of Anthropology. The fragmentary human remains represent two Native American adults, one male (HR021) and one female (HR022), each approximately 50 years old. No known individuals were identified. No associated funerary objects are present.

At an unknown date, human remains representing, at minimum, one individual, were removed from an unknown site, located near Rock River in Albany County, WY. They have been housed at the Human Remains Repository since the mid-1980s. The human remains (HR096), which represent a Native American male, 35-40 years old, were found covered with a red pigment, possibly ocher. No known individual was identified. No associated funerary objects are present.

In 1959, human remains representing, at minimum, one individual were removed from site 48AB5, located approximately three miles southwest of Laramie, Albany County, WY, by personnel of the Wyoming Archaeological Survey Office. The human remains (HR097) were initially taken to the Wyoming State Museum and, in 1983, they were transferred to the Human Remains Repository. The fragmentary human remains represent a Native American male over the age of 50. No known individual was identified. No associated funerary objects are present. Based on fluorine dating performed in the 1960s, the individual probably dates to the Late Plains Archaic (3,000-2,000 years before present).

In 1986, human remains representing, at minimum, one individual were removed from site 48AB458, located approximately 10 miles south-southwest of Laramie, Albany County, WY, by personnel of the Wyoming Archaeological Survey Office and the University of Wyoming Department of Anthropology. The fragmentary human remains (HR115) represent a Native American male 19-24 years old. No known individual was identified. The 9 associated funerary objects include nine shell beads.

In 1986, human remains representing, at minimum, one individual were removed from site 48AB459, located about three miles northeast of Woods Landing, Albany County, WY, by personnel of the Wyoming Archaeological Survey Office and the University of Wyoming Department of Anthropology. The site had been disturbed in 1984 by looters, who reportedly collected corner notched arrow points, bone beads, and a shell pendant from the site. The fragmentary human remains (HR136) represent a Native American female 50-69 years old. No known individual was identified. No associated funerary objects are present.

At some time in the 1960s, human remains representing, at minimum, one individual, were removed from an unknown site, located approximately 25 miles southwest of Laramie, Albany County, WY, near Jelm Mountain, by the landowner. The human remains (HR197) were given to the University of Wyoming Department of Anthropology in 1996. The fragmentary human remains represent a Native American child between the ages of two and three. No known individual was identified. The 4 associated funerary objects include one lot of black, blue, white and red glass seed trade beads; one lot of white lamp-wound glass trade beads; one large abalone shell pendant; and one small abalone shell pendant.

At an unknown date, human remains representing, at minimum, one individual were removed from site 48AB458, located approximately 24 miles north-northeast of Laramie, Albany County, WY. In 2010, the human remains were recovered by law enforcement from the individual who had excavated them illegally. The human remains (HR318) were released to the Human Remains Repository in 2016. The fragmentary human remains represent a Native American male approximately 45 years old. No known individual was identified. No associated funerary objects are present. Additional remains belonging to the individual were later recovered by personnel of the Albany County Coroner's Office and the University of Wyoming Anthropology Department and the presence of other Native American graves in the vicinity was noted.

At an unknown date, human remains representing, at minimum, one individual were removed from site 48CR105, located southeast of Saratoga, Carbon County, WY. The individuals who removed the human remains also reported finding glass trade beads and projectile points at the site. In approximately 1978, the human remains (HR009) were given to the Human Remains Repository. The fragmentary human remains represent a Native American male over the age of 50. No known individual was identified. No associated funerary objects are present.

In 1977, human remains representing, at minimum, one individual were removed from site 48CR933, located approximately 16 miles northeast of Sinclair, Carbon County, WY, by the Office of the Wyoming State Archaeologist and relatives of the landowner. The human remains (HR057), within a bundle burial, were given to the Human Remains Repository by the landowner in 2004. The fragmentary human remains represent a Native American female over the age of 24. No known individual was identified. The 2 associated funerary objects include one lot of debitage and one lot of bone beads and bone bead fragments.

Between 1960 and 1980, human remains representing, at minimum, one individual were removed from an unknown site, located near the town of McFadden, Carbon County, WY. The human remains (HR133) were given to the Human Remains Repository in 1986. The fragmentary human remains represent a Native American male 24-35 years old. No known individual was identified. No associated funerary objects are present.

In 1994, human remains representing, at minimum, one individual were removed from site 48CR5718, located approximately 10.5 miles northwest of the town of Medicine Bow, Carbon County, WY, by personnel of the Office of the Wyoming State Archaeologist and the University of Wyoming Department of Anthropology. The human remains (HR213) have been housed at the Human Remains Repository since that time. The fragmentary human remains represent a Native American male 45-55 years old. No known individual was identified. No associated funerary objects are present.

In 2012, human remains representing, at minimum, one individual were removed from an unknown site, located approximately three miles northwest of the town of Sinclair, Carbon County, WY, by the Carbon County Coroner's Office and the University of Wyoming Department of Anthropology. The human remains, probably belonging to a secondary bundle burial under a small cairn, washed out of the site where they had been interred when a flash flood caused an arroyo wall to collapse. The human remains (HR319) have been housed at the Human Remains Repository since that time. The fragmentary human remains represent a Native American male approximately 50 years old. No known individual was identified. No associated funerary objects are present.

In 1986, human remains representing, at minimum, one individual were removed from site 8CO1829, located approximately 11 miles due south of Douglas, Converse County, WY. The human remains and associated funerary objects were given to the Pioneer Museum in Douglas, which transferred them to the Human Remains Repository in 1992. The fragmentary human remains (HR188) represent a Native American female 30-40 years old. No known individual was identified. The 83 funerary objects include 1 lot of thousands of blue, white, black, light yellow and red-white heart glass trade seed beads; 2 blue glass pony beads; 20 white opaque lamp-wound glass beads; 4 shell beads and shell fragments; 2 gilded metal buttons; 1 broken glass bottle stopper; 4 spring-like coils of brass or copper wire; 19 brass or copper wire bracelets; 1 metal circular trade mirror back; 3 drilled and incised deer/antelope phalanges; 4 elk canine teeth; 1 fragmentary bison tooth; 3 baculite `buffalo stone' fossils; 1 elk horn hide scraper with metal bit; 1 abalone shell pendant; 3 fragmentary metal knife blades; 1 complete metal knife without scales; 1 metal arrow point; 1 metal bridle buckle; 1 metal bridle ring; 1 brass tube; 1 brass decorative metal piece; 1 bone spatula; 2 flat hide burnishing stones; 1 metaquartzite hammer stone; 1 small ball-shaped stone; 1 lot broken bifaces and debitage; and 1 small lot of red, yellow, white, and black ocher.

In 1974, human remains representing, at minimum, one individual were removed from site 48PL57, near the community of Shawnee in Platte County, WY, by personnel of the University of Wyoming Department of Anthropology. The human remains were at the Glendo Museum until 1996, when they were transferred to the Human Remains Repository. The fragmentary human remains (FC005) represent a Native American female 60-70 years old. No known individual was identified. No associated funerary objects are present.

In the 1930s, human remains representing, at minimum, one individual were removed from site 48GO6, located on the south side of the North Platte River near the town of Lingle, Goshen County, WY. At that time, some of the remains of the individual were sent to the Wyoming State Museum, and the remainder were sent to the University of Wyoming Geology Department. In 1963, the Geology Department sent the remains of the individual under its control to the Anthropology Department and, in 1996, the Wyoming State Museum transferred the remains of the individual under its control to the Human Remains Repository. In 2006, the remains of the individual were reunited. The fragmentary human remains (HR004) represent a Native American female 16-24 years old. No known individual was identified. The 15 funerary objects include 1 lot of blue, turquoise, red, white, green and red-white heart glass trade seed beads; 1 lot of olivella shell beads; 1 lot of dentalia shell beads; 2 abalone shell fragments; 1 glass button; 1 lot of fabric and leather fragments; 1 lot of wood fragments; 1 iron buckle; 1 lot of rusted iron fragments; 2 black leather strap fragments; 1 lot of wire bracelets and bracelet fragments; 1 lot of copper or brass plate fragments; and 1 of lot brass buttons.

In the 1970s, human remains representing, at minimum, one individual were removed from a crevasse burial site located approximately one half mile southeast of Crimson Dawn Butte on Casper Mountain, Natrona County, WY, by personnel of the Wyoming Archaeological Society. The human remains were transferred to the Human Remains Repository in the 1980s. The fragmentary human remains (HR200) represent a Native American female approximately 50 years old. No known individual was identified. The 2 funerary objects include 1 lot of slate heishi-style beads and 1 lot of bone beads.

In 1972 or 1973, human remains representing, at minimum, one individual were removed from an unknown site located on the south side of the North Platte River in Natrona County, WY, by personnel of the Natrona County Sheriff's Office. The human remains (FC002) were transferred to the University of Wyoming Anthropology Department Human Remains Repository in 1973. The human remains represent a Native American male 40-50 years old. No known individual was identified. No associated funerary objects are present.

In 1978 or 1979, human remains representing, at minimum, one individual were removed from site 48PL66, located approximately one half mile east of Gray Rocks Reservoir in Platte County, WY, by personnel of the Wyoming State Archaeologist's Office. The fragmentary human remains were transferred to the Human Remains Repository in the early 1980s. The fragmentary human remains represent a Native American male adult of indeterminate age. No known individual was identified. No associated funerary objects are present.

In the 1920s, human remains representing, at minimum, one individual were removed from a cairn site located on the south side of the Platte River in Platte or Converse County, WY. The human remains (HR139) were housed at the Wyoming State Museum and, in 1992, were transferred to the Human Remains Repository. The human remains represent a Native American female 2.5 to 3.5 years old. No known individual was identified. The 1 funerary object includes one cotton print dress with a beaded neckline of white glass trade seed beads.

In 1985, human remains representing, at minimum, one individual were removed from a rock shelter located on the North Platte River in Platte County, WY, by personnel of the University of Wyoming Department of Anthropology. The fragmentary human remains (FC071) represent a Native American female approximately 50 years old. No known individual was identified. No associated funerary objects are present.

At an unknown date, human remains representing, at minimum, one individual were removed from an unknown location near Castle Rock in Platte County, WY. The human remains (HR216) were transferred to the Human Remains Repository in the late 1980s. The human remains represent a Native American adult of indeterminate sex. No known individual was identified. No associated funerary objects are present.

In the 1930s, human remains representing, at minimum, four individuals were removed from an unknown location near Torrington, Goshen County, WY. The human remains were given to the North Platte Police Department in Nebraska in 1994. The human remains were transferred to the Human Remains Repository in 1995 by the Lincoln County, NE., Coroner's office. The fragmentary human remains represent a Native American female 28-35 years old (DB145a); a Native American male, 28-35 years old (DB145b); a Native American child of indeterminate sex 3.5-6.5 years old (DB145c); and a Native American adult of indeterminate sex and age (DB145d). No known individuals were identified. No associated funerary objects are present.

Determinations Made by the Human Remains Repository, Department of Anthropology, University of Wyoming

Officials of the Human Remains Repository, Department of Anthropology, University of Wyoming have determined that:

• Pursuant to 25 U.S.C. 3001(9), the human remains described in this notice are Native American based on features of the skeletal elements or their archeological contexts.

• Pursuant to 25 U.S.C. 3001(9), the human remains described in this notice represent the physical remains of 28 individuals of Native American ancestry.

• Pursuant to 25 U.S.C. 3001(3)(A), the 126 funerary objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Arapaho Tribe of the Wind River Reservation, Wyoming.

• Treaties, Acts of Congress, or Executive Orders, indicate that the land from which the Native American human remains and associated funerary objects were removed is the aboriginal land of the Arapaho Tribe of the Wind River Reservation, Wyoming.

• Pursuant to 43 CFR 10.11(c)(1), the disposition of the human remains and associated funerary objects may be to the Arapaho Tribe of the Wind River Reservation, Wyoming.

Additional Requestors and Disposition

Representatives of any Indian tribe or Native Hawaiian organization not identified in this notice that wish to request transfer of control of these human remains and associated funerary objects should submit a written request with information in support of the request to Dr. Rick L. Weathermon, Curator, Human Remains Repository, Department 3431, Anthropology, 1000 East University Avenue, University of Wyoming, Laramie, WY 82071, telephone (307) 314-2035, email rikw@uwyo.edu, by June 2, 2017. After that date, if no additional requestors have come forward, transfer of control of the human remains and associated funerary objects to the Arapaho Tribe of the Wind River Reservation, Wyoming, may proceed.

The Human Remains Repository, Department of Anthropology, University of Wyoming, is responsible for notifying the Arapaho Tribe of the Wind River Reservation, Wyoming, that this notice has been published.

Dated: March 20, 2017.
Melanie O'Brien,
Manager, National NAGPRA Program.

[FR Doc. 2017-08868 Filed 5-2-17; 8:45 am]

BILLING CODE 4312-52-P